DEPARTMENT OF STATE

48 CFR Parts 604, 637 and 652

[Public Notice: 5992]

RIN 1400-AC32

Department of State Acquisition Regulation

AGENCY: State Department.

ACTION: Proposed rule.

SUMMARY: This proposed rule will add a contract clause to implement the requirements of Homeland Security Presidential Directive 12 (HSPD-12), Policy for a Common Identification Standard for Federal Employees and Contractors; Federal Information Processing Standards Publication (FIPS PUB) Number 201, Personal Identity Verification (PIV) of Federal Employees and Contractors; and associated OMB guidance M-05-24 (August 5, 2005).

DATES: The Department will accept comments from the public up to January 18, 2008.

ADDRESSES: You may submit comments, identified by any of the following methods:

• E-mail: ginesgg@state.gov You must include the RIN in the subject line of your message.

• Mail (paper, disk, or CD-ROM submissions): Gladys Gines, Procurement Analyst, Department of State, Office of the Procurement Executive, 2201 C Street, NW., Suite 603, State Annex Number 6, Washington, DC 20522-0602.

• Fax: 703-875-6155.

Persons with access to the Internet may also view this notice and provide comments by going to the regulations.gov Web site at http://www.regulations.gov/index.cfm.

FOR FURTHER INFORMATION CONTACT: Gladys Gines, Procurement Analyst, Department of State, Office of the Procurement Executive, 2201 C Street, NW., Suite 603, State Annex Number 6, Washington, DC 20522-0602; e-mail address: ginesgg@state.gov.

SUPPLEMENTARY INFORMATION: On January 3, 2006, the Federal Acquisition Regulation (FAR) was revised to implement the contractor personal identification requirements of Homeland Security Presidential Directive 12 (HSPD-12), and Federal Information Processing Standards Publication (FIPS PUB) Number 201, Personal Identity Verification (PIV) of Federal Employees and Contractors. (See 71 FR 208, January 3, 2006). The FAR required compliance with FIPS PUB 201 and associated OMB guidance M-05-24 (August 5, 2005) for solicitations and contracts that require the contractor to have routine physical access to a Federally-controlled facility and/or routine access to a Federally-controlled information system. However, it recognized that Federal agencies needed to customize these policies and procedures to meet mission needs. Therefore, the FAR did not provide specific procedural language for inclusion in affected contracts, but merely required that contractors “comply with agency personal identity verification procedures identified in the contract”.

This proposed rule will add a new contract clause to the Department of State Acquisition Regulation (DOSAR) to implement the Department's requirements regarding personal identity verification of contractor personnel. The clause will apply to contracts that require contractor employees to perform on-site at a Department of State location and/or that require contractor employees to have access to DOS information systems.

The clause directs contractors to an Internet web site document that outlines the personal identity verification procedures for various types of contractors (cleared and uncleared), location of performance (domestic facilities; domestic—Washington, DC metro area facilities; and overseas facilities), and the access requirements (physical; logical; or both).

Finally, DOSAR clause 652.237-71, Identification/Building Pass, and its associated prescription at 637.110(b), are removed. This clause outlined the process for issuing building passes to contractors working on-site at DOS facilities. HSPD-12 and FIPS PUB 201 require more stringent forms of identification to ensure personal identity verification than was reflected in this clause.

Regulatory Findings

Administrative Procedure Act

In accordance with provisions of the Administrative Procedure Act governing rules promulgated by federal agencies that affect the public (5 U.S.C. 552), the Department is publishing this proposed rule and inviting public comment.

Regulatory Flexibility Act

The Department of State, in accordance with the Regulatory Flexibility Act (5 U.S.C. 605(b)), has reviewed this regulation and, by approving it, certifies that this rule will not have a significant economic impact on a substantial number of small entities.

Unfunded Mandates Act of 1995

This rule will not result in the expenditure by State, local, and tribal governments, in the aggregate, or by the private sector, of $100 million or more in any year and it will not significantly or uniquely affect small governments. Therefore, no actions were deemed necessary under the provisions of the Unfunded Mandates Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign based companies in domestic and import markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order.

Executive Order 13132

This rule will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

Information collection requirements have been approved under the Paperwork Reduction Act of 1980 by OMB, and have been assigned OMB control number 1405-0050.

List of Subjects in 48 CFR Parts 604, 637 and 652

Government procurement.

Accordingly, for reasons set forth in the preamble, title 48, chapter 6 of the Code of Federal Regulations is proposed to be amended as follows:

1. The authority citation for 48 CFR parts 604, 637 and 652 continue to read as follows:

Authority: 40 U.S.C. 486(c); 22 U.S.C. 2658.

Subchapter A—General

PART 604—ADMINISTRATIVE MATTERS

2. A new subpart 604.13 is added as follows:

Subpart 604.13—Personal Identity Verification of Contractor Personnel
Sec.
604.1300 Policy.
604.1301 Contract clause.
604.1301-70 DOSAR contract clause.

Subpart 604.13—Personal Identity Verification of Contractor Personnel

604.1300 Policy.

The DOS official responsible for verifying contractor employee personal identity is the Assistant Secretary for Diplomatic Security.

604.1301 Contract clause.

604.1301-70 DOSAR contract clause.

The contracting officer shall insert the clause at 652.204-70, Department of State Personal Identification Card Issuance Procedures, in solicitations and contracts that require contractor employees to perform on-site at a DOS location and/or that require contractor employees to have access to DOS information systems.

Subchapter F—Special Categories of Contracting

PART 637—SERVICE CONTRACTING

3. Section 637.110 is amended by removing paragraph (b) and re-designating paragraphs (c) and (d) as paragraphs (b) and (c), respectively.

Subchapter H—Clauses and Forms

PART 652—SOLICITATION PROVISIONS AND CONTRACT CLAUSES

4. Section 652.204-70 is added as follows:

652.204-70 Department of State Personal Identification Card Issuance Procedures.

As prescribed in 604.1301-70, insert the following clause:

Department of State Personal Identification Card Issuance Procedures (DATE)

(a) The Contractor shall comply with the Department of State (DOS) Personal Identification Card Issuance Procedures for all employees performing under this contract who require frequent and continuing access to DOS facilities, or information systems. The Contractor shall insert this clause in all subcontracts when the subcontractor's employees will require frequent and continuing access to DOS facilities, or information systems.

(b) The DOS Personal Identification Card Issuance Procedures may be accessed at http://www.state.gov/m/ds/rls/rpt/c21664.htm.

(End of clause)

5. Section 652.237-71 is removed and reserved.

6. Section 652.237-72 is amended by removing “637.110(c)” and inserting “637.110(b)” in its place in the clause prescription.

7. Section 652.237-73 is amended by removing “637.110(d)” and inserting “637.110(c)” in its place in the clause prescription.

Dated: November 7, 2007.
Corey M. Rindner,
Procurement Executive, Bureau of Administration, Department of State.

[FR Doc. E7-22460 Filed 11-16-07; 8:45 am]

BILLING CODE 4710-24-P